SMALL BUSINESS ADMINISTRATION

[Disaster Declaration #21338 and #21339; ALASKA Disaster Number AK-20017]

Presidential Declaration Amendment of a Major Disaster for Public Assistance Only for the State of Alaska

AGENCY: U.S. Small Business Administration.

ACTION: Amendment 1.

SUMMARY: This is an amendment of the Presidential declaration of a major disaster for Public Assistance Only for the State of Alaska (FEMA-4893-DR), dated October 22, 2025.

Incident: Severe Storms, Flooding, and remnants of Typhoon Halong.

DATES: Issued on February 3, 2026.

Incident Period: October 8, 2025 through October 13, 2025.

Physical Loan Application Deadline Date: March 5, 2026.

Economic Injury (EIDL) Loan Application Deadline Date: July 22, 2026.

ADDRESSES: Visit the MySBA Loan Portal at https://lending.sba.gov to apply for a disaster assistance loan.

FOR FURTHER INFORMATION CONTACT: Jennifer Talarico, Office of Disaster Recovery and Resilience, U.S. Small Business Administration, 409 3rd Street SW, Suite 6050, Washington, DC 20416, (202) 205-6734.

SUPPLEMENTARY INFORMATION: The notice of the President's major disaster declaration for Private Non-Profit organizations in the State of Alaska, dated October 22, 2025, is hereby amended to extend the deadline for filing applications for physical damages as a result of this disaster to March 5, 2026. This notice is further amended to include the following areas as adversely affected by the disaster.

Primary Areas: Bering Strait Regional Educational Attendance Area, Iditarod Area Regional Educational Attendance Area, Kashunamiut Regional Educational Attendance Area, Pribilof Regional Educational Attendance Area, Yukon-Koyukuk Regional Educational Attendance Area, Yupiit Regional Educational Attendance Area, and the City of Saint Mary's.

All other information in the original declaration remains unchanged.

(Catalog of Federal Domestic Assistance Number 59008)

(Authority: 13 CFR 123.3(b).)

James Stallings,
Associate Administrator, Office of Disaster Recovery & Resilience.

[FR Doc. 2026-02718 Filed 2-10-26; 8:45 am]

BILLING CODE 8026-09-P